DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study Advisory Committee.

The meeting will be open to the public, with attendance limited to space available. Individuals who plan to attend and need special assistance, such as sign language interpretation or other reasonable accommodations, should notify the Contact Person listed below in advance of the meeting.

Name of Committee: National Children's Study Advisory Committee.

Date: June 26-27, 2007.

Time: 8 a.m. to 4 p.m.

Agenda: For questions or to register, please call Circle Solutions at (703) 902-1139 or via the Web site http://www.circlesolutions.com/ncs/ncsac. Advanced registration is required due to space limitations. Registration deadline is June 8, 2007. The agenda will include progress regarding the research plan and protocol, informed consent, adjunct studies and engaging health care providers in the NCS.

Place: Gaithersburg Marriott Washingtonian Center, 9751 Washingtonian Boulevard, Gaithersburg, MD 20878.

Contact Person: Kate Costella, Executive Secretary, National Children's Study, National Institute of Child Health and Human Development, NIH, 6100 Executive Blvd., Bethesda, MD 20892.

This notice is being published less than 15 days prior to the meeting due to timing limitations imposed by administrative matters.

Any interested person may file written comments with the committee by forwarding the statement to the Contact Person listed on this notice. The statement should include the name, address, telephone number and when applicable, the business or professional affiliation of the interested person.

(Catalogue of Federal Domestic Assistance Program Nos. 93.864, Population Research; 93.865, Research for Mothers and Children; 93.929, Center for Medical Rehabilitation Research; 93.209, Contraception and Infertility Loan Repayment Program, National Institutes of Health, HHS)

Dated: June 5, 2007.
Jennifer Spaeth,
Director, Office of Federal Advisory Committee Policy.

[FR Doc. 07-2905 Filed 6-12-07; 8:45 am]

BILLING CODE 4140-01-M